DEPARTMENT OF THE TREASURY

Internal Revenue Service

26 CFR Part 1

[REG-146384-05]

RIN 1545-BF02

Application of Section 338 to Insurance Companies; Correction

AGENCY: Internal Revenue Service (IRS), Treasury.

ACTION: Correction to notice of proposed rulemaking.

SUMMARY: This document corrects a notice of proposed rulemaking that was published in the Federal Register on Monday, April 10, 2006 (71 FR 18053).

The document contains temporary regulations providing guidance under section 197 that apply to the treatment of certain insurance contracts assumed in an assumption reinsurance transaction and section 338 that apply to a deemed sale or acquisition of an insurance company's assets pursuant to an election under section 338 of the Internal Revenue Code, to a sale or acquisition of an insurance trade or business subject to section 1060, and to the acquisition of insurance contracts through assumption reinsurance.

DATES: This correction is effective April 10, 2006.

FOR FURTHER INFORMATION CONTACT: Mark J. Weiss, (202) 622-7790 (not a toll-free number).

SUPPLEMENTARY INFORMATION:

Background

The notice of proposed rulemaking (REG-146384-05), that is the subject of this correction, is under sections 197, 338, and 846 of the Internal Revenue Code.

Need for Correction

As published, the notice of proposed rulemaking (REG-146384-05) contains errors that may prove to be misleading and are in need of clarification.

List of Subjects in 26 CFR Part 1

Income taxes, Reporting and recordkeeping requirements.

Correction of Publication

Accordingly, the publication of the notice of proposed rulemaking (REG-146384-05), which was the subject of FR Doc. 06-3321, is corrected as follows:

PART 1—INCOME TAXES

Paragraph 1. The authority citation for part 1 continues to read, in part, as follows:

Authority: 26 U.S.C. 7805 * * *

§ 1.846-2 [Corrected]

On page 18054, column 3, paragraph instruction Par. 5., the language “Par. 5. Section 1.846-2 as amended by adding new paragraph (d) to read is follows:” is corrected to read “Par. 5. Section 1.846-2 is amended by adding new paragraph (d) to read as follows:”.

Guy R. Traynor,
Chief, Publications and Regulations Branch, Legal Processing Division, Associate Chief Counsel, (Procedure and Administration).

[FR Doc. E6-6894 Filed 5-5-06; 8:45 am]

BILLING CODE 4830-01-P